DEPARTMENT OF HOMELAND SECURITY

Federal Emergency Management Agency

[Docket ID FEMA-2015-0001; Internal Agency Docket No. FEMA-B-1544]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with title 44, part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: October 8, 2015.
Roy E. Wright,
Deputy Associate Administrator for Insurance and Mitigation, Department of Homeland Security, Federal Emergency Management Agency.

State and county | Location and case No. | Chief executive officer of community | Community map repository | Online location of letter of map revision | Effective date of modification | Community No.
Idaho:
Ada | City of Kuna (15-10-0775P) | The Honorable W. Greg Nelson, Mayor, City of Kuna, 763 West Avalon Street, Kuna, ID 83634 | 329 West Third Street, Kuna, ID 83634 | http://www.msc.fema.gov/lomc | Dec. 24, 2015 | 160174
Ada | Unincorporated areas of, Ada County, (15-10-0775P) | The Honorable Dave Case, District Three Commissioner, Ada County, 200 West Front Street, Third Floor, Boise, ID 83702 | 200 West Front Street, Boise, ID 83702 | http://www.msc.fema.gov/lomc | Dec. 24, 2015 | 160001
Illinois:
DuPage | City of Naperville (15-05-2352P) | The Honorable Steve Chirico, Mayor, City of Naperville, 400 South Eagle Street, Naperville, IL 60540 | City Hall, 400 South Eagle Street, Naperville, IL 60540 | http://www.msc.fema.gov/lomc | Dec. 3, 2015 | 170213
Kankakee | Village of Manteno (15-05-4922P) | The Honorable Timothy Nugent, Mayor, Village of Manteno, 98 East Third Street, Manteno, IL 60950 | Village Hall, 98 East Third Street, Manteno, IL 60950 | http://www.msc.fema.gov/lomc | Dec. 17, 2015 | 170878
Kansas:
Johnson | City of Olathe (15-07-1599P) | The Honorable Michael Copeland, Mayor, City of Olathe, P. O. Box 768, Olathe, KS 66051 | City Hall, Olathe Planning Office, 100 West Santa Fe Drive, Olathe, KS 66061 | http://www.msc.fema.gov/lomc | Dec. 4, 2015 | 200173
Minnesota:
McLeod | City of Winsted (15-05-4471P) | The Honorable Steve Stotko, Mayor, City of Winsted, City Hall, 2015 1st Street North, Winsted, MN 55395 | McLeod County Sheriff's Office, 801 10th Street East, Glencoe, MN 55336 | http://www.msc.fema.gov/lomc | Dec. 10, 2015 | 270614
McLeod | Unincorporated areas of McLeod County (15-05-4471P) | The Honorable Paul Wright, Chair, Board of Commissioners McLeod County, McLeod County Courthouse, 830 East 11th Street, Glencoe, MN 55336 | McLeod County Sheriff's Office, 801 10th Street East, Glencoe, MN 55336 | http://www.msc.fema.gov/lomc | Dec. 10, 2015 | 270616
Ohio:
Franklin | City of Columbus (15-05-2037P) | The Honorable Michael B. Coleman, Mayor, City of Columbus, City Hall 2nd Floor, 90 West Broad Street, Columbus, OH 43215 | Department of Development, 757 Carolyn Avenue, Columbus, OH 43224 | http://www.msc.fema.gov/lomc | Dec. 18, 2015 | 390170
Franklin | City of Grandview Heights (15-05-2037P) | The Honorable Ray DeGraw, Mayor, City of Grandview Heights, City Hall, 1016 Grandview Avenue, Grandview Heights, OH 43212 | Development Office, 1525 West Goodale Boulevard, Grandview Heights, OH 43123 | http://www.msc.fema.gov/lomc | Dec. 18, 2015 | 390172
Texas:
Bowie | City of Texarkana (15-06-1450P) | The Honorable Bob Bruggeman, Mayor, City of Texarkana, 220 Texas Boulevard, Texarkana, TX 75501 | 220 Texas Boulevard, Texarkana, TX 75501 | http://www.msc.fema.gov/lomc | Dec. 9, 2015 | 480060
Tarrant | City of Arlington (15-06-2414P) | The Honorable Jeff Williams, Mayor, City of Arlington, 101 East Abram Street, Arlington, TX 76010 | 101 East Abram Street, Arlington, TX 76010 | http://www.msc.fema.gov/lomc | Jan. 6, 2015 | 485454
Washington:
Lewis | City of Napavine (15-10-0078P) | The Honorable John Sayers, Mayor, City of Napavine, 407 Birch Avenue Southwest, P. O. Box 810, Napavine, WA 98565 | City Hall, 214 Second Avenue NE, Napavine, WA 98565 | http://www.msc.fema.gov/lomc | Dec. 18, 2015 | 530254
Lewis | Unincorporated areas of, Lewis County, (15-10-0078P) | The Honorable Bill Schulte, Lewis County Commissioner, District #2, 351 NW North Street, Chehalis, WA 98532 | Division of Public Services, 350 North Market Boulevard, Chehalis, WA 98532 | http://www.msc.fema.gov/lomc | Dec. 18, 2015 | 530102
Wisconsin:
Milwaukee | City of Oak Creek (15-05-2729P) | The Honorable Stephen Scaffidi, Mayor, City of Oak Creek, 8460 South Howell Avenue, P.O. Box 27, Oak Creek, WI 53154 | City Hall, 8640 South Howell Avenue, Oak Creek, WI 53154 | http://www.msc.fema.gov/lomc | Dec. 31, 2015 | 550279
St. Croix | City of River Falls (15-05-3405P) | The Honorable Dan Toland, Mayor, City of River Falls, City Hall, 222 Lewis Street, River Falls, WI 54022 | 123 East Elm Street, River Falls, WI 54022 | http://www.msc.fema.gov/lomc | Dec. 31, 2015 | 550330

[FR Doc. 2015-27246 Filed 10-26-15; 8:45 am

BILLING CODE 9110-12-